DEPARTMENT OF LABOR

Employment and Training Administration

[TA-W-59,968]

TEAMLINDEN; A Division of Fisher and Company; Linden, TN; Notice of Termination of Investigation

Pursuant to Section 221 of the Trade Act of 1974, as amended, an investigation was initiated on August 29, 2006 in response to a petition filed by a company official on behalf of workers at TEAMLINDEN, a division of Fisher and Company, Linden, Tennessee.

The petitioners have requested that the petition be withdrawn. Consequently, the investigation has been terminated.

Linda G. Poole,
Certifying Officer, Division of Trade Adjustment Assistance.

[FR Doc. E6-15633 Filed 9-20-06; 8:45 am]

BILLING CODE 4510-30-P